DEPARTMENT OF JUSTICE

[OMB Number 1121-0346]

Agency Information Collection Activities; Proposed eCollection of eComments Requested; Withdrawal

AGENCY: Bureau of Justice Statistics, Department of Justice.

ACTION: Notice; withdrawal.

SUMMARY: On July 6, 2022, the Department of Justice (DOJ), Office of Justice Programs, Bureau of Justice Statistics, published a notice for eCollection of eComments on reinstatement with change, of a previously approved collection for which approval has expired: 2022 Census of State and Local Law Enforcement Agencies (CSLLEA). The notice is hereby withdrawn.

DATES: The document published at 87 FR 40552-40553 is withdrawn as of July 13, 2022.

SUPPLEMENTARY INFORMATION: On July 6, 2022, the Department of Justice published a Federal Register Notice requesting comments regarding the planned reinstatement of a previously approved information collection, the 2022 Census of State and Local Law Enforcement Agencies (CSLLEA). This notice was published in error as a notice requesting comments on this collection had previously been published on June 6, 2022 at 87 FR 34906. Therefore, the Department of Justice hereby withdraws the notice.

If additional information is required contact: Robert Houser, Assistant Director, United States Department of Justice, Justice Management Division, Policy and Planning Staff, Two Constitution Square, 145 N Street NE, 3E.405A, Washington, DC 20530.

Dated: July 8, 2022.
Robert Houser,
Assistant Director, Policy and Planning Staff, U.S. Department of Justice.

[FR Doc. 2022-14915 Filed 7-12-22; 8:45 am]

BILLING CODE 4410-18-P